NUCLEAR REGULATORY COMMISSION

[Docket No. 40-9083; NRC-2017-0106]

U.S. Army Installation Command

AGENCY: Nuclear Regulatory Commission.

ACTION: 10 CFR 2.206 request; receipt.

SUMMARY: The U.S. Nuclear Regulatory Commission (NRC) is giving notice that by petition dated March 16, 2017, as supplemented on April 10, May 21, June 25, July 24, August 16, August 18, October 11, October 12, October 15, and October 16, 2017, Dr. Michael Reimer (the petitioner) has requested that the NRC take action with regard to depleted uranium (DU) from the M101 spotting rounds licensed at the Pohakuloa Training Area (PTA) under source materials license SUC-1593. The petitioner's requests that have been accepted for evaluation are included in the SUPPLEMENTARY INFORMATION section of this document.

ADDRESSES: Please refer to Docket ID NRC-2017-0106 when contacting the NRC about the availability of information regarding this document. You may obtain publicly-available information related to this document using any of the following methods:

• Federal Rulemaking Web site: Go to http://www.regulations.gov and search for Docket ID NRC-2017-0106. Address questions about NRC dockets to Carol Gallagher; telephone: 301-415-3463; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852-2738.

FOR FURTHER INFORMATION CONTACT: Amy Snyder, Senior Project Manager, Office of Nuclear Material Safety and Safeguards, Division of Decommissioning, Uranium Recovery and Waste Programs, Materials Decommissioning Branch, M.S. T8F05, 11545 Rockville Pike, Rockville, Maryland 20852-2738, Amy.Snyder@nrc.gov or 301 415-6822.

SUPPLEMENTARY INFORMATION: On March 16, 2017 (ADAMS Accession No. ML17110A308), as supplemented on April 10 (ADAMS Accession No. ML17250A248); May 21 (ADAMS Accession No. ML17143A165); June 25 (ADAMS Accession No. ML17177A703); July 24 (ADAMS Accession No. ML17249A091); August 16 (ADAMS Accession No. ML17248A524); August 18, 2017 (ADAMS Accession No. ML17249A075); and October 11, October 12, October 15, and October 16, 2017 (ADAMS Accession No. ML17292A690 (Pkg.)), the petitioner requested that the NRC take action with regard to the U.S. Army Installation Command (ADAMS Accession No. ML17079A447). The petitioner requested that the NRC reconsider approval of License SUC-1593 (ADAMS Accession No. ML16343A164) for possession of DU at four ranges located on PTA, one of the facilities licensed under SUC-1593 paying particular attention to environmental radiation monitoring. The petitioner is concerned about the adequacy of various aspects of the Environmental Radiation Monitoring Program for the licensed DU that is located in the radiation control areas at the PTA, transparency in the licensing of DU at the PTA, and the appropriateness of the DU inventory estimate at the PTA. As the basis for this request, the petitioner identified concerns about the lack of air sampling, the inappropriateness of the location and number of sediment samples, and insufficient geologic sampling procedures for sediment collection for the licensed DU that is located in radiation controlled areas at the PTA.

The request is being treated pursuant to section 2.206 of title 10 of the Code of Federal Regulations (10 CFR) of the Commission's regulations. The request has been referred to the Director of Nuclear Material Safety and Safeguards. The NRC has accepted the following concerns for evaluation under the 10 CFR 2.206 process:

Inappropriate number of sediment samples,

Inappropriate frequency of sediment sampling,

Inappropriate and poorly described analytical techniques (sample analysis methods),

Inappropriate geological sampling procedures for sediment collection, and

Inappropriate data evaluation methods (leading to dilution of samples) to determine the presence of depleted uranium outside the ranges associated with the Pohakuloa Training Area.

As provided by 10 CFR 2.206, appropriate action will be taken on this petition within a reasonable time.

Dated at Rockville, Maryland, this 22th day of November 2017.
For the Nuclear Regulatory Commission.
Scott W. Moore,
Acting Director, Office of Nuclear Material Safety and Safeguards.

[FR Doc. 2017-25776 Filed 11-28-17; 8:45 am]

BILLING CODE 7590-01-P